DEPARTMENT OF HEALTH AND HUMAN SERVICES

Centers for Disease Control and Prevention

[30Day-24-1346]

Agency Forms Undergoing Paperwork Reduction Act Review

In accordance with the Paperwork Reduction Act of 1995, the Centers for Disease Control and Prevention (CDC) has submitted the information collection request titled “Oral Health Basic Screening Survey for Children” to the Office of Management and Budget (OMB) for review and approval. CDC previously published a “Proposed Data Collection Submitted for Public Comment and Recommendations” notice on January 16, 2024, to obtain comments from the public and affected agencies. CDC received no substantive public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Oral Health Basic Screening Survey for Children—(OMB Control No. 0920-1346, Exp. 8/31/2024)—National Center for Chronic Disease Prevention and Health Promotion (NCCDPHP), Centers for Disease Control and Prevention (CDC).

Background and Brief Description

Dental caries (tooth decay) is one of the most common chronic diseases among children in the United States and can lead to pain, infection, and diminished quality of life throughout the lifespan. Dental sealants are a cost-effective measure to prevent caries but remain underutilized. To address states' critical need for state-level oral health surveillance data on dental caries and sealants, the Association of State and Territorial Dental Directors (ASTDD) developed and released an oral health screening survey protocol referred to as the Basic Screening Survey (BSS) in 1999 in collaboration with the Ohio Department of Health and with technical assistance from the CDC's Division of Oral Health.

BSS is a non-invasive visual observation of the mouth performed by trained screeners including dental and non-dental health professionals (e.g., dentists, hygienists, school nurses) and is not duplicative of any other federal collection. Though the National Health and Nutrition Examination Survey (NHANES) collects national data on oral health status including dental caries and sealants based on clinical examination it is not designed to provide state-level data. BSS is designed to be easy to perform while being consistent and aligned with the oral health Healthy People objectives, which are based on NHANES measures. BSS is the only data source that provides state-representative data on oral health status based on clinical examination. BSS is also used to monitor state progress toward key national oral health objectives.

The BSS is a state-tailored survey administered and conducted by individual states. CDC has supported some of the 50 states to build and maintain their oral health surveillance system and ASTDD to provide technical assistance to states through state and partner cooperative agreements since 2001. Conducting BSS for third graders is a key component of that support.

The target populations include school children in grades K-3 and children enrolled in Head Start in 50 states and Washington, DC. ASTDD and CDC recommend that states conduct BSS at minimum for third graders at least once every five years. Individual states determine how often to conduct BSS and which grade or grades to target based on their program needs and available resources. Forty-seven states have conducted BSS for children, and all of the 47 conducted BSS with third graders. Thirty-two states also have conducted BSS in one or more other grades (K-2) or in Head Start. CDC estimates that approximately 34 states, including 20 states currently funded by CDC, will conduct one BSS for third grade during the period for which this approval is being sought.

State health departments administer the survey by determining probability samples, arranging logistics with selected schools or Head Start sites, gaining consent, obtaining demographic data, training screeners, conducting the oral health screening at schools or Head Start sites. Screeners record four data points either electronically or on a paper form: (1) presence of treated caries, (2) presence of untreated tooth decay, (3) urgency of need for treatment, and (4) presence of dental sealants on at least one permanent molar tooth.

State programs enter, clean, and analyze the data; de-identify it; and respond to ASTDD's annual email request for state-aggregated prevalence of dental caries and sealants. ASTDD reviews the data to ensure that both survey design and data meet specific criteria before sending it to CDC for publication on the CDC's public-facing Oral Health Data website (www.cdc.gov/oralhealthdata).

BSS for children serves as a key state oral health surveillance data source and facilitates state capacity to (1) monitor children's oral health status, trends, and disparities, and compare with other states; (2) inform planning, implementation and evaluation of effective oral health programs and policies; (3) measure state progress toward Healthy People objectives; and (4) educate the public and policy makers regarding cross-cutting public health programs. CDC also uses the data to evaluate performance of CDC oral health funding recipients.

The estimated total annualized burden hours for the survey across the 34 states over the three years of this request are 40,207 with an average of 1,183 per state. There are no costs to respondents other than their time.

Estimated Annualized Burden Hours
Type of respondents | Form name | Number of respondents | Number of responses per respondent | Average burden per response (in hours)
Child | Screening form | 150,370 | 1 | 5/60
Parent/caretaker | Consent | 150,370 | 1 | 1/60
Screener | Screening form | 301 | 1 | 11
School/site | Participation form | 2,890 | 1 | 68/60
State Official | Data Submission form | 34 | 1 | 546

Jeffrey M. Zirger,
Lead, Information Collection Review Office, Office of Public Health Ethics and Regulations, Office of Science, Centers for Disease Control and Prevention.

[FR Doc. 2024-18372 Filed 8-15-24; 8:45 am]

BILLING CODE 4163-18-P